DEPARTMENT OF AGRICULTURE

Agricultural Marketing Service

[Docket No. ST-01-01]

Plant Variety Protection Board; Open Meeting

AGENCY: Agricultural Marketing Service, USDA.

ACTION: Notice of meeting.

SUMMARY: This notice sets forth the schedule and proposed agenda of a forthcoming meeting of the Plant Variety Protection Board.

DATES: November 14 and 15, 2001, 8 a.m. to 5 p.m., open to the public.

ADDRESSES: The meeting will be held in the National 4-H Conference Center, 1700 Connecticut Avenue, Chevy Chase, Maryland.

FOR FURTHER INFORMATION CONTACT: Commissioner Paul M. Zankowski, Plant Variety Protection Office, Science and Technology Program, United States Department of Agriculture, 10301 Baltimore Blvd., Room 400, National Agricultural Library Building, Beltsville, Maryland 20705-2351, Telephone number (301) 504-5518 or fax (301) 504-5291.

SUPPLEMENTARY INFORMATION: Pursuant to the provisions of section 10(a) of the Federal Advisory Committee Act (Pub. L. 92-463, 5 U.S.C. App.), this notice is given regarding a Plant Variety Protection Advisory Board meeting. The board is constituted under section 7 of the Plant Variety Protection Act (7 U.S.C. 2327).

The proposed agenda for the meeting will include discussions of: (1) A proposal to increase fees of the Plant Variety Protection Office, (2) the Six Sigma review process, (3) long term strategic planning for efficient functioning of the Plant Variety Protection Office, (4) migration to e-business and (5) and other related topics. Written comments may be submitted to the contact person listed above before or after the meeting.

Dated: October 25, 2001.
A.J. Yates,
Administrator, Agricultural Marketing Service.

AGENDA—Plant Variety Protection (PVP) Board Meeting, November 14 and 15, 2001, National 4-H Conference Center, Chevy Chase, MD

November 14, 2001

Call to Order

Introductions

Opening Remarks

Adoption of Agenda

Adoption of March and September 2000 Board Meeting Minutes

Overview of the PVP Act and proposed changes to the regulations and rules of practice

Discussion of proposed fee increase and supplemental fees

Reengineering PVP Office business operations (Six Sigma Process)

Recommendations

November 15, 2001

FY2001 Accomplishment Report

Appeals to the Secretary of Agriculture (if any)

E-Business Migration Plans

Biotechnology—Influence of new molecular techniques for the reviewing applications and bioengineered varieties

Future Program Activities

Topics brought forward by Board members

Meeting Summary

Adjourn

[FR Doc. 01-27324 Filed 10-30-01; 8:45 am]

BILLING CODE 3410-02-M